DEPARTMENT OF DEFENSE

Department of the Navy

[Docket ID USN-2018-HQ-0004]

Proposed Collection; Comment Request

AGENCY: Department of the Navy, DoD.

ACTION: Information collection notice.

SUMMARY: In compliance with the Paperwork Reduction Act of 1995, the Naval Criminal Investigative Service announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by April 30, 2018.

ADDRESSES: You may submit comments, identified by docket number and title, by any of the following methods:

• Federal eRulemaking Portal: http://www.regulations.gov. Follow the instructions for submitting comments.

Mail: Department of Defense, Office of the Chief Management Officer, Directorate of Oversight and Compliance, 4800 Mark Center Drive, Mailbox #24, Suite 08D09B, Alexandria, VA 22350-1700.

Instructions: All submissions received must include the agency name, docket number, and title for this Federal Register document. The general policy for comments and other submissions from members of the public is to make these submissions available for public viewing on the internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Naval Criminal Investigative Service Headquarters, Code 23B2, 27130 Telegraph Road, Quantico, VA, 22134 or email CATCH@ncis.navy.mil.

SUPPLEMENTARY INFORMATION:

Title; Associated Form; and OMB Number: Catch Program; OMB Control Number 0703-XXXX.

Needs and Uses: The information collection requirement is necessary to assist with the identification of serial sexual assault offenders within the military services.

Affected Public: Individuals or Households.

Annual Burden Hours: 150.

Number of Respondents: 300.

Responses per Respondent: 1.

Annual Responses: 300.

Average Burden per Response: 30 minutes.

Frequency: On occasion.

Respondents are sexual assault victims who have elected to make a restricted or confidential report that precludes the initiation of a law enforcement investigation. The respondent has the option to provide information relevant to the crime via this program while keeping their identity confidential. The information provided by the respondent is reviewed by law enforcement officials, and if indicators of a possible multiple offender are identified, the respondent's advocate is contacted to determine whether or not the respondent would prefer a criminal investigation be initiated. All information collected from this program, to include the identity of a suspect, is not releasable and may not be used for any purpose unless the respondent agrees to make a formal report to law enforcement.

Dated: February 22, 2018.
Aaron Siegel,
Alternate OSD Federal Register, Liaison Officer, Department of Defense.

[FR Doc. 2018-03965 Filed 2-26-18; 8:45 am]

BILLING CODE 5001-06-P